DEPARTMENT OF THE INTERIOR

Fish and Wildlife Service

Theodore Roosevelt National Wildlife Refuge Complex

AGENCY: Fish and Wildlife Service, Interior.

ACTION: Notice of Availability of the Draft Comprehensive Conservation Plan and Environmental Assessment for the Theodore Roosevelt National Wildlife Refuge Complex, which consists of five national wildlife refuges—Yazoo, Panther Swamp, Hillside, Morgan Brake, and Mathews Brake—as well as a number of smaller fee title properties and floodplain and conservation easements in the Mississippi Delta.

SUMMARY: This notice announces that a Draft Comprehensive Conservation Plan and Environmental Assessment for the Theodore Roosevelt National Wildlife Refuge Complex are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, the plan identifies wildlife-dependent recreational opportunities available to the public, including opportunities for hunting, fishing, wildlife observation, wildlife photography, and environmental education and interpretation.

DATES: A meeting will be held to present the plan to the public. Mailings, newspaper articles, and posters will be the avenues to inform the public of the date and time for the meting. Individuals wishing to comment on the Draft Comprehensive Conservation Plan and Environmental Assessment for the Theodore Roosevelt National Wildlife Refuge Complex should do so within 45 days following the date of this notice.

ADDRESSES: Request for copies of the Draft Comprehensive Conservation Plan and Environmental Assessment should be addressed to the Theodore Roosevelt National Wildlife Refuge Complex, 728 Yazoo Refuge Road, Hollandale, Mississippi 38748; Telephone 662/839-2638. The plan and environmental assessment may also be accessed and downloaded from the Service's Internet Web site http://southeast.fws.gov/planning/. Comments on the draft plan may be submitted to the above address or via electronic mail to mike_dawson@fws.gov. Please include your name and return address in your Internet message. Our practice is to make comments, including names and home addresses of respondents, available for public review during regular business hours. Individual respondents may request that we withhold their home addresses from the record, which we will honor to the extent allowable by law.

SUPPLEMENTARY INFORMATION: Significant issues addressed in the draft plan include: threatened and endangered species, waterfowl management, neotropical migratory birds, bottomland hardwood restoration, agriculture, visitor services, funding and staffing, cultural resources, land acquisition, and forest fragmentation.

The Service developed four alternatives for managing the refuge complex and chose Alternative B as the preferred alternative.

Alternatives

Alternative A. No Action (Current Situation)

Existing Complex management and public outreach practices would be favored under this alternative. All refuge management actions would be directed toward achieving the Complex's primary purposes including (1) preserving wintering waterfowl habitat; (2) providing production habitat for wood ducks; and (3) meeting the habitat conservation goals of the North American Waterfowl Management Plan, all the while contributing to other national, regional, and state goals to protect and restore shorebirds, neotropical migratory breeding birds, woodcocks, and threatened and endangered species. Refuge management programs would continue to be developed and implemented with little baseline biological information. Active habitat management would be implemented through water level manipulations, moist-soil and cropland management, and reforestation designed to provide a diverse complex of habitats that meet the foraging, resting, and breeding requirements for a variety of species. Complex staff would continue to restore and maintain existing wetlands, open waters, grasslands, and bottomland hardwood forest habitats.

Land would be acquired from willing sellers within the current acquisition boundaries totaling 113,060 acres.

Hunting and fishing would continue to be the major focuses of the Complex public use program, with no expansion of current opportunities. Current restrictions or prohibitions would remain. All-terrain vehicle use would continue at its current level, with little maintenance to existing trails. Environmental education and wildlife observation and photography would be accommodated on a case-by-case basis. Funding requests would continue in order to construct a Complex headquarters office/visitor contact area on Yazoo National Wildlife Refuge and to rehabilitate other existing facilities.

Alternative B. Balanced Habitat and Public Use Emphasis (Preferred Alternative)

The Service planning team has identified Alternative B as the preferred alternative. This alternative was developed based on public input and the best judgement of the planning team. The strategies presented in the draft comprehensive conservation plan were developed as a direct result of the selection of Alternative B.

This alternative would promote a greater understanding of, and protection for, the fish, wildlife, and habitats of the Complex. It would promote quality and more evenly balanced recreational and educational programs for visitors. Hunting and fishing would continue with greater emphasis on the quality of the experience with more diverse opportunities, including those for youth and disabled hunters/anglers. Education and interpretation would be promoted through regular programs and partnerships with local schools. Wildlife observation and photography opportunities would be expanded, including trails, auto tours, photo blinds, and observation towers, highlighting refuge management programs and unique wildlife and habitats. All-terrain vehicle use for wildlife-dependent creation (e.g., hunting and fishing) would continue to provide access to remote portions of certain refuges. Trails to accommodate these vehicles would be evaluated for retention based on impacts to refuge resources, access, duplication, and other means of access. If possible, trails removed for these reasons would be rerouted if needed for hunter dispersal. A user fee and permit would be required for all-terrain vehicles to provide additional funds needed for the trail maintenance program.

A visitor center and headquarters office would be constructed at Yazoo National Wildlife Refuge. Two new subheadquarters and visitor contact stations would be constructed at Panther Swamp and Morgan Brake National Wildlife Refuges. The new subheadquarters at Panther Swamp Refuge would be relocated off either Highway 49 or River Road, to provide greater visibility and access to the public.

Reforestation efforts would focus on creating buffers along field edges to protect waterfowl and other waterbirds from disturbance, and define boundaries along adjacent private lands. As lands are acquired, they would be evaluated for their ability to contribute to step-down habitat objectives (e.g., moist soil) and to interior forest habitat.

Research studies on bottomland hardwood forest restorations would be fostered and partnerships developed with universities and other agencies, providing needed resources and experiment sites while meeting the needs of the complex's reforestation programs. Research would also benefit efforts throughout the Lower Mississippi River Alluvial Valley to reforest large tracts of lands to meet the objectives set by the Lower Mississippi Joint Venture office to address the fulfillment of the Partners-in-Flight Plan.

Additional staff and facilities would be added to accomplish objectives for establishing baseline data on refuge resources, managing habitats, providing opportunities and facilities for wildlife observation and photography, and providing educational programs that promote a greater understanding of the Complex's purposes, issues, and resources, as well as the unique value of the Lower Mississippi River Alluvial Valley.

Under this alternative, 125,511 acres of Complex lands (including refuges and Farmers Home Administration properties) would be protected, maintained, restored, and enhanced for resident wildlife, waterfowl, migratory nongame birds, and threatened and endangered species. A “Conservation Partners Focus Area” would be established to not only concentrate off-refuge resources, but for partnership opportunities and future boundary expansion studies to meet regional and national objectives. Extensive wildlife and plant censuses and inventory activities would be initiated to obtain the biological information needed to implement and monitor management programs on the Complex. All management actions would be directed toward achieving each refuge's primary purposes, while contributing to other national, regional, and state goals. Active habitat management programs would include water level manipulations, moist-soil and cropland management, reforestation, and existing forest management, all designed to meet the foraging, resting, and breeding requirements for a variety of species, particularly migratory birds. An extensive system of levees, water control structures, and wells would be maintained and developed in an effort to mimic historic flooding regimes.

As funding becomes available to either contract or conduct farming operations with Complex equipment and staff, acres in agricultural production would be reduced by at least half, depending upon the level of funding and yield. The majority of the acres would be converted to moist soil to meet habitat objectives and needs of wintering waterfowl and other waterbirds, and scrub/shrub and grassland habitats for neotropical migratory birds, woodcock, and upland game birds. Additional lands would be reforested, but due to the size and distribution of sites, would not be sufficient to meet any interior forest objectives. An assortment of step-down management plans would be created or updated to provide the specifics for the individual refuge programs.

Under this alternative, the Complex would continue to seek, from willing sellers, acquisition of all inholdings within the present acquisition boundaries. Top priority would be lands which, if acquired, would address some critical issues related to habitat protection, access, and off-refuge impacts. Lands acquired as part of the Complex would be made available for compatible wildlife-dependent public recreation and environmental education opportunities. Equally important options to be used include: Corps of Engineers' mitigation program; outreach and partnerships with adjacent landowners; hunt clubs; and the Natural Resources Conservation Service to use conservation easements, cooperative agreements, and federal programs, such as the Wetland Reserve Program, to link bottomland hardwood forest tracts and contribute to overall wildlife, soil, and water conservation benefits within the Lower Mississippi River Alluvial Valley.

Alternative C. Public Use Emphasis

This approach would place less emphasis on managing habitats, while allowing for significantly more public recreational uses. Any additional staff and resources would be directed towards allowing for more compatible public activities in all areas of the Complex. Additional moist soil, scrub/shrub, forested lands, and grasslands would not be restored and managed. Moist-soil impoundments, currently managed for waterfowl and shorebirds, would be converted to fishing ponds for public use. Hunting seasons would be aligned with state regulations to allow for maximum use. All-terrain vehicle use would continue to disperse hunters, with additional funding used to maintain the maximum number of trails and roads for access.

Auto tours, canoe trails, foot trails, and observation towers would be added for environmental education and watchable wildlife programs. Additional staff would be used for developing and presenting both on- and off-site outreach and interpretation programs.

A visitor center and headquarters office would be constructed at Yazoo National Wildlife Refuge. Two new subheadquarters and visitor contact stations would be constructed at Panther Swamp and Morgan Brake Refuges. The new subheadquarters at Panther Swamp Refuge would be relocated off either Highway 49 or River Road, to provide greater visibility and access to the public.

Land acquisition within the current acquisition boundary would continue with emphasis on those lands that could provide additional public use opportunities and greater access to current refuge lands by the public.

Alternative D. Interior Forest Habitat Emphasis

Under this alternative, all suitable Complex lands would be reforested in support of migratory birds and other wildlife dependent on interior forest habitats. Most refuge management actions would be directed toward creating and managing the largest amount of interior and corridor forest habitat (for Louisiana black bear, neotropical migratory songbirds, and other interior forest wildlife) and reducing forest fragmentation, while supporting the overall primary purposes for the Complex of preserving wintering habitat for mallards, pintails, and wood ducks, and providing production habitat for wood ducks and other migratory birds dependent on forested habitats. Other national, regional, and state goals to protect and restore shorebird, grassland, and scrub/shrub bird populations would be supported secondarily in habitats that were not suitable for reforestation. Step-down waterfowl objectives, established by the Lower Mississippi Joint Venture, in support of the North American Waterfowl Management Plan, for unharvested crops and moist soil would not be met. However, wintering waterfowl would potentially benefit from additional flooded timber habitat, including mast and invertebrate production.

Open habitat for geese would not be maintained on Yazoo National Wildlife Refuge and farming would be eliminated throughout the Complex. Eliminating farming would eliminate goose use, maximize the amount of forests and forested corridor habitats, and minimize forest fragmentation. A forest management plan, designed to address this alternative's primary goals by creating spatially and specifically diverse woodlands, would be developed and implemented. Quality wildlife-dependent recreation activities (e.g., hunting, fishing, wildlife observation, and environmental education and interpretation) would be provided. An environmental education plan, incorporating aggressive and proactive promotion of on- and off-site programs, would be developed and implemented. Improvements would be made to interior and exterior roads to provide all-weather vehicular access to a broad segment of the public; however, existing and proposed roads and trails would be evaluated for their impacts on forest fragmentation. Wildlife observation sites/platforms; interpretive trails, boardwalks, and kiosks; and restrooms would be provided at specific sites to allow for fully accessible interpretation and environmental education programs. Fishing would be provided on Panther Swamp, Hillside, Morgan Brake, and Mathews Brake National Wildlife Refuges.

Under this alternative, the complex would continue to seek, from willing sellers, acquisition of all inholdings within the present acquisition boundary. Highest priority would be given to those lands that may be reforested to contribute to the interior forest objectives. Lands would be made available for compatible wildlife-dependent public recreation and environmental education opportunities. Additionally, the Complex would concentrate on all future off-refuge programs and partnerships within the “Conservation Partners Focus Area,” with an emphasis on contributing to interior forest habitat.

Authority: This notice is published under the authority of the National Wildlife Refuge System Improvement Act of 1997, Public Law 105-57.

Dated: April 7, 2005.
Jacquelyn B. Parrish,
Acting Regional Director.

[FR Doc. 05-20491 Filed 10-12-05; 8:45 am]

BILLING CODE 4310-55-M